DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, email paperwork@hrsa.gov or call the HRSA Reports Clearance Officer at (301) 443-1984.

Comments are invited on: (a) The proposed collection of information for the proper performance of the functions of the Agency; (b) the accuracy of the Agency's estimate of the burden of the proposed collection of information; (c) ways to enhance the quality, utility, and clarity of the information to be collected; and (d) ways to minimize the burden of the collection of information on respondents, including through the use of automated collection techniques or other forms of information technology.

Proposed Project: Maternal, Infant and Early Childhood Home Visiting Program FY 2012 Competitive Funding Opportunity Announcement (OMB No. 0915-xxxx)—[New]

On March 23, 2010, the President signed into law the Patient Protection and Affordable Care Act (the Act). Section 2951 of the Act amended Title V of the Social Security Act by adding a new section, 511, which authorized the creation of the Maternal, Infant, and Early Childhood Home Visiting Program, (http://frwebgate.access.gpo.gov/cgi-bin/getdoc.cgi?dbname=111_cong_bills&docid=f:h3590enr.txt.pdf, pages 216-225). The Act responds to the diverse needs of children and families in communities at risk and provides an unprecedented opportunity for collaboration and partnership at the Federal, State, and community levels to improve health and development outcomes for at risk children through evidence-based home visiting programs.

Under this program, a funding opportunity announcement for formula-based funding for States was issued in June 2011. The same level of funding, $125,000,000, was made available to States according to the same formula as in FY 2010. These two-year grants were awarded to support States in implementing their Updated State Plans that were submitted during the summer of 2011.

Additionally, a competitive Funding Opportunity Announcement (FOA) was issued in June 2011 to allow interested States to apply for one of two possible grants: Development Grants and Expansion Grants. Development Grants were intended to support States and jurisdictions with modest evidence-based home visiting programs to expand the depth and scope of these efforts, with the intent to develop the infrastructure and capacity needed to seek an Expansion Grant in the future. Expansion Grants were intended to recognize states and jurisdictions that had already made significant progress towards a high-quality home visiting program or embedding their home visiting program into a comprehensive, high-quality early childhood system. Among eligible applicants to the competitive grant program, 13 States were awarded Development Grants and nine States were awarded Expansion Grants. Currently, the 54 States and eligible jurisdictions participating in the formula-funded program have begun implementing their State Home Visiting Plans. Because the FY 2011 grants were for two-years, no additional FOA will be issued this year for the formula program, but the State grantees will be completing non-competing progress reports in order to secure the release of their FY 2012 allocations. The 22 States that received competitive grant funding have also begun to carry out their proposed programs, integrating them with their formula-based programming. These competitive grants are for two years (Development Grants) and four years (Expansion Grants) respectively, and those grantees will also be completing non-competitive progress reports for FY 2012.

The Maternal, Infant, and Early Childhood Home Visiting Program intends to make an additional $84,484,397 available for Development and Expansion Grants in FY 2012. With the concurrence of the Secretary, ten more Expansion Grants, totaling $71,359,043, will be awarded (by rank order) from among high-ranking applicants under the FY 2011 announcement. The FY 2012 competitive FOA will announce approximately $12,000,000 for new Development Grants. The intent of these Development Grants is identical to that announced in FY 2011, which is to support States and jurisdictions with modest evidence-based home visiting programs to expand the depth and scope of these efforts, with the intent to develop the infrastructure and capacity needed to seek an Expansion Grant in the future. It is anticipated that there will be awarded between four and eight Development Grants. The total grant award may range between $1 million to $3 million annually. Applicants may apply for a ceiling amount of up to $3 million per year. The project period is two (2) years.

The annual estimate of burden is as follows:

Instrument | Number of respondents | Responses per respondent | Hours per response | Total burden hours
Introduction | 30 | 1 | 8 | 240
Needs Assessment | 30 | 1 | 16 | 480
Methodology | 30 | 1 | 24 | 720
Work Plan | 30 | 1 | 16 | 480
Resolution of Challenges | 30 | 1 | 8 | 240
Evaluation and Technical Support Capacity | 30 | 1 | 24 | 720
Organizational Information | 30 | 1 | 8 | 240
Additional Attachments | 30 | 1 | 24 | 720
Total |  |  |  | 3840

Email comments to paperwork@hrsa.gov or mail the HRSA Reports Clearance Officer, Room 10-29, Parklawn Building, 5600 Fishers Lane, Rockville, MD 20857. Written comments should be received within 60 days of this notice.

Dated: February 22, 2012.
Reva Harris,
Acting Director, Division of Policy and Information Coordination.

[FR Doc. 2012-4722 Filed 2-28-12; 8:45 am]

BILLING CODE 4165-15-P